ENVIRONMENTAL PROTECTION AGENCY

[EPA-HQ-OAR-2014-0471; FRL-9962-65-OAR]

RIN 2060-AS26

Granting Petitions To Add n-Propyl Bromide to the List of Hazardous Air Pollutants

AGENCY: Environmental Protection Agency.

ACTION: Notice, extension of comment period.

SUMMARY: On January 9, 2017, the Environmental Protection Agency (EPA) published a draft notice of the rationale for granting petitions to add n-propyl bromide (nPB), also known as 1-bromopropane (1-BP) (Chemical Abstract Service No. 106-94-5), to the list of hazardous air pollutants contained in section 112(b)(1) of the Clean Air Act. In this notice, the EPA is extending the comment period on the draft notice until October 1, 2017. The EPA received a timely request to extend the comment period from March 10, 2017, to October 1, 2017, in order to allow for the review of data and information that would otherwise become available after the close of the comment period. On March 6, 2017, as an initial response, the EPA made an interim extension of the comment period by 90 days until June 8, 2017. The EPA is now granting the request in full and extending the comment period until October 1, 2017.

DATES: The public comment period for the draft notice published in the Federal Register on January 9, 2017 (82 FR 2354), is being extended. Written comments must be received on or before October 1, 2017.

ADDRESSES: Comments. Submit your comments, identified by Docket ID No. EPA-HQ-OAR-2014-0471, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, cloud, or other file sharing system). For additional submission methods, the full EPA public comment policy, information about CBI or multimedia submissions, and general guidance on making effective comments, please visit http://www2.epa.gov/dockets/commenting-epa-dockets.

FOR FURTHER INFORMATION CONTACT: For questions about this proposed action, contact Ms. Elineth Torres, Sector Policies and Programs Division (D205-02), Office of Air Quality Planning and Standards, Environmental Protection Agency, Research Triangle Park, North Carolina 27711; telephone number: (919) 541-4347; email address: torres.elineth@epa.gov.

SUPPLEMENTARY INFORMATION: The EPA is granting the request for extension of time to provide the public additional opportunity to review and consider the Toxics Release Inventory (TRI) data for nPB, which becomes available in late July 2017, when preparing comments on this draft notice. The EPA has decided to extend the public comment period until October 1, 2017.

Dated: May 10, 2017.
Stephen Page,
Director, Office of Air Quality Planning and Standards.

[FR Doc. 2017-11623 Filed 6-5-17; 8:45 am]

BILLING CODE 6560-50-P